DEPARTMENT OF STATE

[Public Notice 9266]

Industry Advisory Group: Notice of Charter Renewal

The charter for the U.S. Department of State Bureau of Overseas Buildings Operations' (OBO) Industry Advisory Group has been renewed for an additional two-year period. The group's annual meeting is held in the Harry S. Truman Building at the U.S. Department of State, located at 2201 C Street NW., Washington, DC. Each meeting is devoted to an exchange of ideas between OBO's senior management and the group members on issues relating to property management; site acquisition; project planning; design and engineering; construction; facility maintenance; and building operations.

The meetings are generally open to the public and are subject to advance registration and provision of required security information. Procedures for registration are included with each meeting announcement, no later than fifteen business days before each meeting.

OBO's mission is to provide safe, secure and functional facilities that represent the U.S. government to the host nation and support our staff in the achievement of U.S. foreign policy objectives. These facilities represent American values and the best in American architecture, engineering, technology, sustainability, art, culture, and construction execution.

For further information, please contact Christine Foushee at FousheeCT@state.gov or (703) 875-4131.

Dated: August 11, 2015.
Lydia Muniz,
Director, Overseas Buildings Operations, U.S. Department of State.

[FR Doc. 2015-22880 Filed 9-9-15; 8:45 am]

BILLING CODE 4710-51-P